DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2018, through June 30, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: July 18, 2018.
George Sigounas,
Administrator.

List of Petitions Filed

1. Ronald Discher, Gales Ferry, Connecticut, Court of Federal Claims No: 18-0777V

2. Thomas Becktold, Soddy Daisy, Tennessee, Court of Federal Claims No: 18-0782V

3. Fay Bleier, Salamanca, New York, Court of Federal Claims No: 18-0783V

4. Adriane Davis and Sylvester Davis on behalf of E.D., Springfield, Missouri, Court of Federal Claims No: 18-0784V

5. Marie Brow. Stanley, North Carolina, Court of Federal Claims No: 18-0786V

6. Karen Knepp, Pittsburgh, Pennsylvania, Court of Federal Claims No: 18-0790V

7. Andrew Trujillo, Las Cruces, New Mexico, Court of Federal Claims No: 18-0791V

8. Jennifer Jackson, Columbia, South Carolina, Court of Federal Claims No: 18-0793V

9. Lynann Raymer on behalf of J.R., Phoenix, Arizona, Court of Federal Claims No: 18-0794V

10. Molly Anderson, Washington, District of Columbia, Court of Federal Claims No: 18-0797V

11. Lisa Taylor, Elyria, Ohio, Court of Federal Claims No: 18-0798V

12. Scott Germaine on behalf of C.G., Richmond, Texas, Court of Federal Claims No: 18-0800V

13. Crystal Jensen, Tacoma, Washington, Court of Federal Claims No: 18-0802V

14. Christian M. Hayes, Helena, Montana, Court of Federal Claims No: 18-0804V

15. Matthew Hussong, Davenport, Iowa, Court of Federal Claims No: 18-0805V

16. Gordon Ernst, Washington, District of Columbia, Court of Federal Claims No: 18-0806V

17. Susan V. Torrey, Nampa, Idaho, Court of Federal Claims No: 18-0807V

18. George Segal, Austintown, Ohio, Court of Federal Claims No: 18-0809V

19. Balbina Ibe, Fountain Valley, California, Court of Federal Claims No: 18-0810V

20. James Clark, Marietta, Georgia, Court of Federal Claims No: 18-0813V

21. Jiaqian Wu, Houston, Texas, Court of Federal Claims No: 18-0814V

22. Michelle Marie Cobenias, Red Lake, Minnesota, Court of Federal Claims No: 18-0815V

23. Ali Fadhil, M.D., Chicago, Illinois, Court of Federal Claims No: 18-0816V

24. Calvin Johnson, Washington, District of Columbia, Court of Federal Claims No: 18-0817V

25. Willis H. Gibbs, Murfreesboro, Tennessee, Court of Federal Claims No: 18-0818V

26. Edward A. Clendon, Greensboro, North Carolina, Court of Federal Claims No: 18-0819V

27. Daniel Hedlund, Minneapolis, Minnesota, Court of Federal Claims No: 18-0820V

28. Ashley T. Hunsucker, Stanfield, North Carolina, Court of Federal Claims No: 18-0821V

29. Esther Mutema, Poughkeepsie, New York, Court of Federal Claims No: 18-0822V

30. Mary Ligouri, Phoenix, Arizona, Court of Federal Claims No: 18-0824V

31. Jerome Debeltz, Ely, Minnesota, Court of Federal Claims No: 18-0825V

32. Brandi Blessike and Barry Blessike on behalf of B.B., Alpharetta, Georgia, Court of Federal Claims No: 18-0827V

33. Erica Turner, Macon, Georgia, Court of Federal Claims No: 18-0828V

34. Kimberly A. Purtill, Charlotte, North Carolina, Court of Federal Claims No: 18-0832V

35. Susan Wigley, Aurora, Colorado, Court of Federal Claims No: 18-0834V

36. Donald Sipes, Camp Hill, Pennsylvania, Court of Federal Claims No: 18-0835V

37. Ana Marie Provencio, Phoenix, Arizona, Court of Federal Claims No: 18-0836V

38. Angela Overall, Vancouver, Washington, Court of Federal Claims No: 18-0838V

39. Mary Miceli, Staten Island, New York, Court of Federal Claims No: 18-0839V

40. Ronald Schneider, Union Grove, Wisconsin, Court of Federal Claims No: 18-0843V

41. Michelle Daniels, Marysville, Washington, Court of Federal Claims No: 18-0850V

42. Dennis Long, Springfield, Illinois, Court of Federal Claims No: 18-0857V

43. Bruce A. Ling, J.R., Quincy, Florida, Court of Federal Claims No: 18-0858V

44. Marianne Simeneta, Augusta, Georgia, Court of Federal Claims No: 18-0859V

45. Donna Skwiat, Jackson, New Jersey, Court of Federal Claims No: 18-0865V

46. Elizabeth McCann, Huntington Valley, Pennsylvania, Court of Federal Claims No: 18-0866V

47. Rhett Malpass, Troy, Michigan, Court of Federal Claims No: 18-0867V

48. Kellee Matlock, Washington, District of Columbia, Court of Federal Claims No: 18-0868V

49. Morgan Tirone, Englewood, New Jersey, Court of Federal Claims No: 18-0869V

50. Tonya DeCoursey, Washington, District of Columbia, Court of Federal Claims No: 18-0870V

51. Jim B. Bynum, Panama City Beach, Florida, Court of Federal Claims No: 18-0874V

52. Timothy J. Loken on behalf of G.L., Charlotte, North Carolina, Court of Federal Claims No: 18-0876V

53. Tiffany Wilson, Phoenix, Arizona, Court of Federal Claims No: 18-0877V

54. Christy L. Harrup, Greensboro, North Carolina, Court of Federal Claims No: 18-0880V

55. Mindy Lawson, Washington, District of Columbia, Court of Federal Claims No: 18-0882V

56. Kelsey Reed, London, Kentucky, Court of Federal Claims No: 18-0884V

57. Patricia L. Guzowski, Notre Dame, Indiana, Court of Federal Claims No: 18-0885V

58. Janardhana Donga, Sacramento, California, Court of Federal Claims No: 18-0886V

59. Lisa Sargent, Washington, District of Columbia, Court of Federal Claims No: 18-0888V

60. Daniel E. Bragg, Portland, Maine, Court of Federal Claims No: 18-0890V

61. Margaret Mitchell, Woodbury, Massachusetts, Court of Federal Claims No: 18-0892V

62. Candace M. Berlin, Winter Haven, Florida, Court of Federal Claims No: 18-0893V

63. Jeffrey Foster on behalf of B.N.F., Chattanooga, Tennessee, Court of Federal Claims No: 18-0904V

64. Catherine M. Raby, Nampa, Idaho, Court of Federal Claims No: 18-0906V

65. Audrey Henning, Ocean City, New Jersey, Court of Federal Claims No: 18-0907V

66. Carla Pavao, Hudson, Massachusetts, Court of Federal Claims No: 18-0908V

67. Rachelle Meyers, Summit, New Jersey, Court of Federal Claims No: 18-0909V

68. Charles W. Morrill, West Covina, California, Court of Federal Claims No: 18-0910V

69. Michael Volle, Burgettstown, Pennsylvania, Court of Federal Claims No: 18-0911V

70. Nicole Webb, Chicago, Illinois, Court of Federal Claims No: 18-0912V

71. Anderson Roy Dunn, III, North Bend, Washington, Court of Federal Claims No: 18-0913V

72. Adam Salky, Los Angeles, California, Court of Federal Claims No: 18-0914V

73. Brandon Keck and Jessica Cook on behalf of A.K., Fort Riley, Kansas, Court of Federal Claims No: 18-0915V

74. Jessica Sobczyk on behalf of I.S., San Antonio, Texas, Court of Federal Claims No: 18-0917V

75. Mary Freehling, Vienna, Virginia, Court of Federal Claims No: 18-0918V

76. Maria Jill Vandergriff and Jon-Michael Vandergriff on behalf of Roark Vandergriff, Deceased, Vienna, Virginia, Court of Federal Claims No: 18-0919V

77. Kevin Delapaz, Vienna, Virginia, Court of Federal Claims No: 18-0922V

78. Jacqueline Robinson, Vienna, Virginia, Court of Federal Claims No: 18-0924V

79. Jose Gamboa-Avila, Denver, Colorado, Court of Federal Claims No: 18-0925V

80. David Colucci, Henderson, Nevada, Court of Federal Claims No: 18-0926V

81. Ligia Gairdo, Cranberry Township, Pennsylvania, Court of Federal Claims No: 18-0929V

82. Donna Carmichael, Mankato, Minnesota, Court of Federal Claims No: 18-0930V

83. Susanna J Howard, Greensboro, North Carolina, Court of Federal Claims No: 18-0931V

84.Vanessa Nelson, Dresher, Pennsylvania, Court of Federal Claims No: 18-0932V

85. Terry Catching, White Plains, New York, Court of Federal Claims No: 18-0933V

86. Renee Smith, Beverly Hills, California, Court of Federal Claims No: 18-0936V

87. Michael Patton, Beverly Hills, California, Court of Federal Claims No: 18-0937V

88. James Owens, Beverly Hills, California, Court of Federal Claims No: 18-0938V

89. Theresa Ukpo, Beverly Hills, California, Court of Federal Claims No: 18-0939V

90. Kailey Kinslow, Beverly Hills, California, Court of Federal Claims No: 18-0940V

91. Barbara Goldman, Beverly Hills, California, Court of Federal Claims No: 18-0941V

92. Barbara A. Brown, White Plains, New York, Court of Federal Claims No: 18-0943V

93. Tracey Harris on behalf of C.H., Boston, Massachusetts, Court of Federal Claims No: 18-0944V

94. Sandra Williams, Dresher, Pennsylvania, Court of Federal Claims No: 18-0947V

[FR Doc. 2018-15739 Filed 7-23-18; 8:45 am]

BILLING CODE 4165-15-P